DEPARTMENT OF THE INTERIOR

Fish and Wildlife Service

[FWS-R8-ES-2014-N046; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before April 17, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-27452B

Applicant: Rick L. Perry, Bakersfield, California.

The applicant requests a permit to take (survey, capture, handle, mark, release, hold in captivity, and relocate) the Morro Bay kangaroo rat (Dipodomys heermanni morroensis), giant kangaroo rat (Dipodomys ingens), Tipton kangaroo rat (Dipodomys nitratoides nitratoides), Stephens' kangaroo rat (Dipodomys stephensi), and riparian woodrat (San Joaquin Valley woodrat) (Neotoma fuscipes riparia), in conjunction with survey and population monitoring activities throughout the range of the species in California for the purpose of enhancing the species' survival.

Permit No. TE-27457B

Applicant: Naval Base Coronado, Coronado, California.

The applicant requests a permit to reduce and remove to possession (collect) the Acmispon dendroideus var. traskiae (San Clemente Island broom), Castilleja grisea (San Clemente Island paintbrush), Delphinium variegatum ssp. Kinkiense (San Clemente Island larkspur), Lithophragma maximum (San Clemente Island woodland star), Malacothamnus clementinus (San Clemente Island bush mallow), and Sibara filifolia (Santa Cruz Island woodland star) in conjunction with surveys, life history studies, seed production, and research activities throughout the range of each species on San Clemente Island and Santa Cruz Island within Los Angeles and Santa Barbara Counties, California, for the purpose of enhancing the species' survival.

Permit No. TE-797999

Applicant: Merkel & Associates, Inc., San Diego, California.

The applicant requests a permit renewal to take (harass by survey) the southwestern willow flycatcher (Empidonax traillii extimus), take (locate and monitor nests and remove brown-headed cowbird (Molothrus ater) eggs and chicks from parasitized nests) the least Bell's vireo (Vireo bellii pusillus), take (survey by pursuit) the Quino checkerspot butterfly (Euphydryas editha quino), take (harass by survey, locate and monitor nests, capture, handle, weigh, band, color-band, and release) the California least tern (Sternula antillarum browni) (Sterna a. b.), take (harass by survey) the light-footed clapper rail (Rallus longirostris levipes), take (harass by survey, capture, handle, release, and collect specimens for vouchers and parasite analysis) the unarmored threespine stickleback (Gasterosteus aculeatus williamsoni), take (harass by survey, capture, handle, and release) the tidewater goby (Eucyclogobius newberryi), and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey, population monitoring, and research activities throughout the range of each species in California for the purpose of enhancing the species' survival.

Permit No. TE-27501B

Applicant: Travis Kegel, San Juan Capistrano, California.

The applicant requests a permit to take (harass by survey) the southwestern willow flycatcher (Empidonax traillii extimus) in conjunction with survey activities throughout the range of the species in California for the purpose of enhancing the species' survival.

Permit No. TE-27502B

Applicant: Patricia C. Schuyler, Vista, California.

The applicant requests a permit take (survey by pursuit) the Quino checkerspot butterfly (Euphydryas editha quino) in conjunction with survey activities throughout the range of each species in California for the purpose of enhancing the species' survival.

Permit No. TE-213730

Applicant: Chad M. Young, Riverside, California.

The applicant requests a permit renewal and amendment to take (survey, capture, handle, and release) the Stephens' kangaroo rat (Dipodomys stephensi) in conjunction with surveys and population monitoring activities in Riverside and San Diego Counties, California, for the purpose of enhancing the species' survival.

Permit No. TE-054011

Applicant: John F. Green, Riverside, California.

The applicant requests a permit renewal to take (harass by survey, locate and monitor nests, and remove brown-headed cowbird (Molothrus ater) eggs and chicks from parasitized nests) the southwestern willow flycatcher (Empidonax traillii extimus), take (locate and monitor nests and remove brown-headed cowbird eggs and chicks from parasitized nests) the least Bell's vireo (Vireo bellii pusillus), take (survey by pursuit) the Quino checkerspot butterfly (Euphydryas editha quino), take (harass by survey) the Yuma clapper rail (Rallus longirostris yumanensis), take (capture, handle, and release) the San Bernardino Merriam's kangaroo rat (Dipodomys merriami parvus), and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and population monitoring activities throughout the range of each species in California, Nevada, Utah, Colorado, Arizona, New Mexico, and Texas for the purpose of enhancing the species' survival.

Permit No. TE-797234

Applicant: LSA Associates, Incorporated, Point Richmond, California.

The applicant requests an amendment to a permit to take (survey and nest monitor) the California clapper rail (Rallus longirostris obsoletus) in conjunction with surveys, and population monitoring activities in Contra Costa, Alameda, Santa Clara, San Mateo, San Francisco, Marin, Sonoma, Napa and Solano Counties, California, for the purpose of enhancing the species' survival.

Permit No. TE-068799

Applicant: Mikael T. Romich, Yucaipa, California.

The applicant requests an amendment to a permit to take (locate and monitor nests) the least Bell's vireo (Vireo bellii pusillus) in conjunction with population monitoring activities throughout the range of the species in California for the purpose of enhancing the species' survival.

Permit No. TE-28769B

Applicant: Aaron I. Sunshine, Oakland, California.

The applicant requests a permit to take (harass by survey, capture, handle, and release) the California tiger salamander (Santa Barbara County Distinct Population Segment (DPS) and Sonoma County DPS) (Ambystoma californiense) in conjunction with survey and population monitoring activities throughout the range of the species in California for the purpose of enhancing the species' survival.

Permit No. TE-28778B

Applicant: Emily L. Rice, San Diego, California.

The applicant requests a permit to take (harass by survey, locate and monitor nests, erect and use cameras to monitor nests, capture, handle, band, radio tag, hold for no more than 20 minutes and release, install and remove fence pens and radio tag (attach radio-transmitters to chicks) for the purposes of mark-recapture study, and transport sick or injured individuals and abandoned eggs) the California least tern (Sternula antillarum browni) (Sterna a. b.) in conjunction with survey and population studies on Marine Corps Base, Camp Pendleton, and Naval Base San Diego (including Naval Amphibious Base Coronado, Naval Air Station North Island, and Silver Strand Training Complex South) in California for the purpose of enhancing the species' survival.

Permit No. TE-023250

Applicant: Naval Base Coronado, Coronado, California.

The applicant requests a permit renewal to take (harass by survey and collect voucher specimens) the island night lizard (Xantusia riversiana) in conjunction with survey and population monitoring activities on San Clemente Island and San Nicholas Island in California for the purpose of enhancing the species' survival.

Permit No. TE-227185

Applicant: Andrew B. Eastty, San Diego, California.

The applicant requests a permit renewal to take (harass by survey, capture, band, and locate and monitor nests) the southwestern willow flycatcher (Empidonax traillii extimus) in conjunction with survey activities throughout the range of the species in Arizona, New Mexico, and Texas; take (survey by pursuit) the Quino checkerspot butterfly (Euphydryas editha quino) in conjunction with survey activities throughout the range of the species in California; and remove/reduce to possession Astragalus magdalenae var. peirsonii (Peirson's milk-vetch) in conjunction with survey activities within Bureau of Land Management lands in Imperial County for the purpose of enhancing the species' survival.

Permit No. TE-116370

Applicant: Gage H. Dayton, Santa Cruz, California.

The applicant requests a permit renewal to take (capture, handle, mark, release, and collect voucher specimens) the Santa Cruz long-toed salamander (Ambystoma macrodactylum croceum), take (capture, handle, mark, collect tissues samples, and release, and collect voucher specimens) the California tiger salamander (Santa Barbara County DPS and Sonoma County DPS) (Ambystoma californiense), and take (harass by survey, capture, handle, release, and collect voucher specimens) the tidewater goby (Eucyclogobius newberryi) in conjunction with surveys, research, and population monitoring activities throughout the range of the species in California for the purpose of enhancing the species' survival.

Permit No. TE-063427

Applicant: Sarah C. Powell, Sacramento, California.

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-093151

Applicant: Richard T. Rivas, Elk Grove, California.

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), and take (capture, handle, and release) the California tiger salamander (Santa Barbara County DPS and Sonoma County DPS) (Ambystoma californiense) in conjunction with survey activities throughout the range of each species in California for the purpose of enhancing the species' survival.

Permit No. TE-073205

Applicant: Christina P. Sandoval, Goleta, California.

The applicant requests a permit renewal to take (harass by survey, locate and monitor nests, and use decoys and taped vocalizations) the California least tern (Sternula antillarum browni) (Sterna a. b.) in conjunction with survey and population monitoring activities in Santa Barbara County, California, for the purpose of enhancing the species' survival.

Permit No. TE-811894

Applicant: Samuel M. McGinnis, Manteca, California.

The applicant requests a permit renewal to take (survey, capture, handle, mark, measure, and release) the salt marsh harvest mouse (Reithrodontomys raviventris) and San Francisco garter snake (Thamnophis sirtalis tetrataenia) in conjunction with survey activities, population monitoring, and research activities throughout the range of each species in California for the purpose of enhancing the species' survival.

Permit No. TE-076257

Applicant: County of San Luis Obispo, San Luis Obispo, California.

The applicant requests a permit renewal to take (locate, handle, measure, and release) the Morro shoulderband snail (Helminthoglypta walkeriana) in conjunction with surveys in San Luis Obispo County, California, for the purpose of enhancing the species' survival.

Permit No. TE-097516

Applicant: Thomas P. Ryan, Monrovia, California.

The applicant requests a permit to take (harass by survey, locate and monitor nests, erect nest exclosures, erect and use cameras to monitor nests, capture, handle, band, color band, float eggs, use decoys and acoustic playback, collect non-viable eggs, radio tag (attach radio-transmitters), hold for no more than 20 minutes and release, install and remove fence sampling pens, perform mark-recapture study, and transport sick or injured individuals and abandoned eggs) the California least tern (Sternula antillarum browni) (Sterna a. b.) in conjunction with surveys, population studies, and research activities on Marine Corps Base, Camp Pendleton, and Naval Base San Diego (including Naval Amphibious Base Coronado, Naval Air Station North Island, and Silver Strand Training Complex South) in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-05902 Filed 3-17-14; 8:45 am]

BILLING CODE 4310-55-P